DEPARTMENT OF ENERGY

Federal Energy Regulatory Commission

[Docket No. 2230-033]

City & Borough of Sitka, Alaska; Notice of Scoping Meeting, Site Visit, and Solicitation of Scoping Comments

October 1, 2003.

The Federal Energy Regulatory Commission's (Commission) regulations allow applicants to prepare their own Environmental Assessment (EA) for hydropower projects for filing with the Commission along with the license application as part of an alternative licensing procedure (ALP). On September 10, 2003, the Commission noticed the request of City & Borough of Sitka, Alaska (Sitka) to use the ALP and set a deadline for comments of October 10, 2003. Sitka wishes to hold a scoping meeting on Wednesday, October 22, 2003. Because the Commission will need ample time to fully consider comments received from interested stakeholders on Sitka's request to use the ALP, the Commission is not likely to make a decision on Sitka's request to use the ALP prior to the scoping meeting. However, the ALP allows greater flexibility than the traditional licensing process, and the Commission believes that it is in the public interest to solicit scoping comments in this notice. The Commission has not pre-judged Sitka's request to use the ALP.

Public Meeting and Site Visit

Sitka distributed a Scoping Document 1 (SD1) for the Blue Lake Hydroelectric Project on September 17, 2003, to the mailing list for this proceeding. In addition, Sitka will hold a scoping meeting for the project. The purpose of the meeting is to review the information presented in the SD1 and to initiate the identification of areas of interest that should be addressed in the licensing and any related Applicant-Prepared Environmental Assessment (APEA) processes. The meeting will be held as follows:

Blue Lake Scoping Meeting

Date: Wednesday, October 22, 2003.

Place: Harrigan Centennial Hall, 330 Harbor Drive, Sitka, Alaska.

Time: 7 p.m.

This meeting is posted on the Commission's calendar located at http://www.ferc.gov/EventCalendar/EventsList.aspx along with other related information.

Sitka will also conduct a site visit to the project on Thursday, October 23, 2003. Those wishing to attend the site visit should meet at the Blue Lake Powerhouse at 9 a.m. Please RSVP Dean Orbison, Engineering Manager, at (907) 747-6633, at least 3 days prior to the site visit if you plan on attending.

The deadline for filing comments is November 21, 2003. All documents (an original and eight copies) should be filed with: Magalie R. Salas, Secretary, Federal Energy Regulatory Commission, 888 First Street, NE., Washington, DC 20426.

Scoping comments may be filed electronically via the Internet in lieu of paper. The Commission strongly encourages electronic filings. See 18 CFR 385.2001(a)(1)(iii) and the instructions on the Commission's web site: http://www.ferc.gov under the “e-Filing” link.

The Commission's Rules of Practice and Procedure require all interveners filing documents with the Commission to serve a copy of that document on each person on the official service list for the project. Further, if an intervener files comments or documents with the Commission relating to the merits of an issue that may affect the responsibilities of a particular resource agency, they must also serve a copy of that document on that resource agency.

Based on feedback received on the SD1 and the project site visit, Sitka will prepare a Scoping Document 2 (SD2). SD2 will include a revised list of issues based on the meeting and written comments.

All interested individuals, organizations, and agencies are invited and encouraged to attend the meetings and site visit and to assist in the identification of environmental issues that should be included in SD2.

We are asking federal, state, local, and tribal agencies with jurisdiction and/or special expertise with respect to environmental issues to cooperate with us in the preparation of the Commission's EA. Agencies who would like to request cooperating agency status should file such a request (original and eight copies) with the Secretary at the aforementioned address. Please put the docket number, P-2230-033, on the first page of your filing.

For further information regarding the scoping meeting and project site visit or to be added to the mailing list for the project, please contact Mr. Dean Orbison of Sitka or Nicholas Jayjack of the Commission's staff at (202) 502-6073.

A copy of the SD1 is available for review at the Commission in the Public Reference Room or may be viewed on the Commission's website at http://www.ferc.gov using the “eLibrary” link. Enter the project number (P-2230) in the docket number field to access the document. For assistance, contact FERC Online Support at FERCOnlineSupport@ferc.gov or toll-free at 1-866-208-3676, or for TTY, (202) 502-8659.

You may also register online at http://www.ferc.gov/docs filing/esubscription.asp to be notified via email of new filings and issuances related to this or other pending projects. For assistance, contact FERC Online Support.

Magalie R. Salas,
Secretary.

[FR Doc. 03-25450 Filed 10-3-03; 8:45 a.m.]

BILLING CODE 6717-01-P